POSTAL SERVICE

Sunshine Act Meeting; Board of Governors

Board Votes To Close September 30, 2010, Meeting

In person and by telephone vote on September 30, 2010, a majority of the members contacted and voting, the Board of Governors of the United States Postal Service voted unanimously to close to public observation its meeting held in Washington, DC, via teleconference. The Board determined that no earlier public notice was possible.

Items Considered: 1. Strategic Issues.

2. Financial Matters.

3. Pricing.

4. Personnel Matters and Compensation Issues.

5. Governors' Executive Session—discussion of prior agenda items and Board Governance.

General Counsel Certification: The General Counsel of the United States Postal Service has certified that the meeting was properly closed under the Government in the Sunshine Act.

Contact Person for More Information: Requests for information about the meeting should be addressed to the Secretary of the Board, Julie S. Moore, at (202) 268-4800.

Julie S. Moore,
Secretary.

[FR Doc. 2010-25658 Filed 10-6-10; 4:15 pm]

BILLING CODE 7710-12-P